DEPARTMENT OF LABOR

Office of the Secretary

Submission for OMB Review; Comment Request

March 22, 2000.

The Department of Labor (DOL) has submitted the following public informaiton collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation of ESA, MSHA, OSHA, and VETS contact Darrin King (202) 219-5096 ext. 151 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the informaiton to be collected; and

• Minimize the burden of the collection of information on those who are to respond, including through the use of appropriate automated, electronic, mechanical, or other technological collection techniques or other forms of information technology, e.g., permitting electronic submission of responses.

Agency: Occupational Safety and Health Administration (OSHA); Labor.

Title: Reports of Injuries to Employees Operating Mechanical Power Presses (29 CFR 1910.217(g)).

OMB Number: 1218-0070.

Frequency: On occasion.

Affected Public: Business or other for-profit; Not-for-profit institutions; Federal Government; State, Local or Tribal Government.

Number of Respondents: 123.

Estimated Time per Response: 20 minutes (0.33 hour).

Total Burden Hours: 41.

Description: The Occupational Safety and Health Act of 1970 (the Act) authorizes information collection by employers as necessary or appropriate for enforcement of the Act or for developing information regarding the causes and prevention of occupational injuries, illnesses, and accidents. (29 U.S.C. 657). In the event an employee is injured while operating a mechanical power press, 29 CFR 1910.217(g) requires the employer to provide information to OSHA regarding the accident within 30 days of the accident. This information includes the employer's and employee's names, workplace address, injury sustained, task being performed when the injury occurred, number of operators involved, cause of the accident, type of clutch and safeguard(s) used, and means used to actuate the press.

OSHA's Office of Electrical, Electronic, and Mechanical Engineering Safety Standards collects and reviews the accident information for the purpose of monitoring the effectiveness of the Mechanical Power Press Standard. The accident information also is forwarded to the National Institute for Occupational Safety and Health for analysis and compilation of an epidemiology database on point-of-operation injuries. In addition, OSHA's Office of Compliance Programs is conducting a national emphasis program aimed at reducing the number and severity of power press injuries. It needs the accident information provided in these reports to evaluate the types of injuries that occur, and to identify the equipment and conditions associated with these injuries.

In summary, as production evolves and new technologies arise (or old ones decline), it is necessary to have up-to-date accident information. This information is useful in revising the standard, planning enforcement strategies, and training compliance officers, as well as for developing hazard alerts that address exceptionally hazardous equipment or operations.

Ira L. Mills,
Department Clearance Officer.

[FR Doc. 00-7731 Filed 3-28-00; 8:45 am]

BILLING CODE 4510-26-M